DEPARTMENT OF EDUCATION

Technical Assistance on Data Collection—Technical Assistance Center for Data Collection, Analysis, and Use for Accountability in Special Education and Early Intervention

AGENCY: Office of Special Education and Rehabilitative Services, Department of Education.

ACTION: Notice of proposed priority and eligibility requirements.

SUMMARY: The Assistant Secretary for Special Education and Rehabilitative Services proposes a funding priority and eligibility requirements under the Technical Assistance on State Data Collection program. The Assistant Secretary may use the priority and eligibility requirements for competitions in fiscal year (FY) 2007 and later years. We take this action to focus attention on an identified national need to provide technical assistance to improve the capacity of States to meet data collection requirements relating to their State academic assessment systems.

DATES: We must receive your comments on or before April 11, 2007.

ADDRESSES: Address all comments about the proposed priority and eligibility requirements to Scott Brown, U.S. Department of Education, 400 Maryland Avenue, SW., room 4076, Potomac Center Plaza, Washington, DC 20202-2700. If you prefer to send your comments through the Internet, use the following address: Scott.Brown@ed.gov.

You must include the term “Data Collection Priority” in the subject line of your electronic message.

FOR FURTHER INFORMATION CONTACT: Scott Brown. Telephone: (202) 245-7282.

If you use a telecommunications device for the deaf (TDD), you may call the Federal Relay Service (FRS) at 1-800-877-8339.

Individuals with disabilities may obtain this document in an alternative format (e.g., Braille, large print, audiotape, or computer diskette) on request to the contact person listed under FOR FURTHER INFORMATION CONTACT.

SUPPLEMENTARY INFORMATION:

Invitation To Comment

We invite you to submit comments regarding the proposed priority and eligibility requirements.

We invite you to assist us in complying with the specific requirements of Executive Order 12866 and its overall requirement of reducing regulatory burden that might result from the proposed priority and eligibility requirements. Please let us know of any further opportunities we should take to reduce potential costs or increase potential benefits while preserving the effective and efficient administration of the program.

During and after the comment period, you may inspect all public comments about this notice in room 4076, 550 12th Street, SW., Potomac Center Plaza, Washington, DC, between the hours of 8:30 a.m. and 4:00 p.m., Eastern time, Monday through Friday of each week except Federal holidays.

Assistance to Individuals With Disabilities in Reviewing the Rulemaking Record

On request, we will supply an appropriate aid, such as a reader or print magnifier, to an individual with a disability who needs assistance to review the comments or other documents in the public rulemaking record for the proposed priority and eligibility requirements. If you want to schedule an appointment for this type of aid, please contact the person listed under FOR FURTHER INFORMATION CONTACT.

We will announce the final priority and eligibility requirements in a notice in the Federal Register. We will determine the final priority and eligibility requirements after considering responses to this notice and other information available to the Department. This notice does not preclude us from proposing additional priorities and eligibility requirements, subject to meeting applicable rulemaking requirements.

Note: This notice does not solicit applications. In any year in which we choose to use the proposed priority and eligibility requirements, we invite applications through a notice in the Federal Register. When inviting applications we designate the priority as absolute, competitive preference, or invitational. The effect of each type of priority follows:

Absolute priority: Under an absolute priority, we consider only applications that meet the priority (34 CFR 75.105(c)(3)).

Competitive preference priority: Under a competitive preference priority, we give competitive preference to an application by either (1) awarding additional points, depending on how well or the extent to which the application meets the competitive preference priority (34 CFR 75.105(c)(2)(i)); or (2) selecting an application that meets the competitive preference priority over an application of comparable merit that does not meet the priority (34 CFR 75.105(c)(2)(ii)).

Invitational priority: Under an invitational priority, we are particularly interested in applications that meet the invitational priority. However, we do not give an application that meets the invitational priority a competitive or absolute preference over other applications (34 CFR 75.105(c)(1)).

Technical Assistance Center for Data Collection, Analysis, and Use for Accountability in Special Education and Early Intervention

Background

With the increased emphasis on holding public agencies accountable for improving educational results for children, data-based decision making, and identifying and implementing evidence-based practices, it is vitally important that State agencies, local districts and schools, educators, service providers, researchers, policymakers, and families of children with disabilities have access to high-quality data.

The Department's data quality standards include the following criteria:

• Validity—Data adequately represent performance;

• Accurate Description—Definitions and counts are correct;

• Editing—Data are clean;

• Calculation—The math is correct;

• Timeliness—Data are recent; and

• Reporting—Full disclosure is made.

The Individuals with Disabilities Education Improvement Act of 2004, which amended the Individuals with Disabilities Education Act (IDEA) and reflected the No Child Left Behind Act of 2001's (NCLB) increased focus on outcomes for students with disabilities, included a new section 616 that requires the Secretary to monitor the States, and the States to monitor their local educational agencies (LEAs) and local early intervention service (EIS) programs, in the implementation of IDEA's requirements to improve services and results for children with disabilities. Section 616 of IDEA also requires the Secretary and States to use quantifiable indicators and such qualitative indicators as are needed to adequately measure State, LEA, and EIS program performance in specific priority areas. Each State must establish in its State Performance Plan measurable and rigorous targets for the indicators in the priority areas under Parts B and C of IDEA. Each State also must annually report to the Office of Special Education Programs (OSEP) on the State's progress on meeting each of the targets and to the general public regarding the progress of LEAs and EIS programs on meeting the State's targets.

In accordance with these statutory requirements the Department has established 20 indicators for monitoring performance under Part B and 14 indicators for monitoring performance under Part C of IDEA. These indicators rely on: (1) Data obtained from State monitoring of LEAs and EIS programs; (2) NCLB assessment data; (3) data reported through EDFacts (formerly the Education Data Exchange Network or EDEN); (4) early childhood and postsecondary outcome assessment data; (5) indicator specific survey data; and (6) State-reported data under section 618 of IDEA.

Data collected through State monitoring activities can be used to report on four of the Part B and five of the Part C indicators. Accordingly, States need to develop and maintain monitoring systems that are of high quality and that can efficiently and effectively collect the data needed to substantiate progress on these nine indicators. OSEP's past experience with collecting data from States, however, indicates that States, LEAs, and local EIS programs need technical assistance to collect and submit high quality data, including data garnered through the States' monitoring systems, as well as data that States report to the Department through EDFacts.

Providing general technical assistance to States to improve their data and data collection systems will result in improved data quality by increasing State proficiency in these activities. This, in turn, will enhance the ability of State educational agencies, LEAs, Part C lead agencies, EIS programs, EIS providers, and the Department to use the data for developing and implementing substantive data-based strategies for improving academic outcomes for children with disabilities.

Proposed Priority

The Assistant Secretary for Special Education and Rehabilitative Services proposes a priority for the funding of a center (Center) to (1) provide technical assistance and information to States to help them provide high quality data needed for implementation of Parts B and C of IDEA and improve their data collection infrastructures; and (2) provide assistance to the Department regarding these data collections. The Center's activities and products must include, but are not limited to, the following:

(a) Developing and implementing an annual strategic plan for technical assistance and dissemination activities to improve State-reported data. At the end of each year, the Center must prepare and submit to the Department a summary and evaluation of its technical assistance and dissemination activities for the year;

(b) Designing and conducting two national data managers' meetings each year of the project period, of approximately 100 participants each, to provide information and technical assistance to State Parts B and C data managers. Both meetings must be held in the Washington, DC metropolitan area in facilities that are accessible to individuals with disabilities. The Center must arrange and pay for meeting rooms, honoraria and expenses for speakers, visual aids and print materials, and travel expenses, lodging, and per diem at government rates for one to two representatives from each State or reporting entity. The meetings must include both large-group and small-group sessions, as well as informal time for discussion. Topics for the meetings must include specific State-reported data problems identified throughout the year, methods of data collection and verification, updates on Federal reporting requirements, potential uses of data by States, and reports on other data collections specified by OSEP. Each meeting also must include a training session for new State data managers. After each meeting, the Center must prepare a meeting newsletter summarizing meeting highlights and descriptionsp of key presentations and handouts;

(c) Providing technical assistance and information to States to improve State data quality through activities such as: (1) Developing data systems, including monitoring systems, that incorporate the collection and analysis of valid data, to measure statewide progress on State targets; (2) developing data systems, including monitoring systems, that incorporate the collection and analysis of valid data, to measure local progress on State targets; (3) interpreting and portraying data, including data obtained through monitoring, as it relates to State targets; (4) incorporating data analysis results into State and local strategies for improvement of performance under Parts B and C; (5) developing and revising measurable and rigorous targets, based on data and input from stakeholder groups, for State Performance Plans (SPPs); (6) collecting and disseminating valid and reliable assessment data relative to State achievement standards; (7) developing technically sound SPP sampling plans for the collection of valid and reliable data on those SPP indicators that permit sampling; and (8) developing training modules for State educational agencies, State lead agencies, LEAS, and EIS programs that focus on the collection of high quality data;

(d) Developing and distributing to States: (1) Annual updates of the Parts B and C data dictionaries, data collection histories, and data fact sheets; (2) current State data system profiles describing the types of systems employed by the States including their efforts to ensure they collect high quality data; (3) analyses of data provided by the States under sections 616 and 618 of IDEA addressing State data collection, entry, and verification; (4) based on State-reported data, a description and analysis of data trends relative to States' performance on their measurable and rigorous targets; (5) tables of annual State data organized to provide States with an enhanced perspective of their performance relative to other States; (6) data and other information for the Web site, http://www.IDEADATA.org; (7) analyses of Part B and Part C SPP annual performance report data; (8) training modules for both States and local agencies that focus on the collection of high quality data; (9) documents as needed for meetings with the Education Information Management Advisory Committee (EIMAC), a standing committee of the Council of Chief State School Officers; (10) updated annual versions of the Early Intervention Data Handbook and supporting materials, as requested; (11) annual studies of extant data from other sources to provide analysis of broad trends in the characteristics of the population of infants, toddlers, and children with disabilities as requested by OSEP; and (12) other requested documents, including roughly five to seven ad hoc analyses per month;

(e) Providing for direct interaction with and support to States by mail, telephone, online communication, video, or on-site visits, including the provision of customized technical assistance. Participate in the semi-annual EIMAC meetings and other meetings as requested by the Department;

(f) Assisting States to provide high quality data to the Department's EDFacts system. The Center must log in data, check data for completeness and errors or anomalies, communicate with States to resolve any errors or anomalies, and prepare data notes on any unresolved problems. The Center must prepare monthly and annual data status reports to OSEP, including all data notes related to data being reported through EDFacts;

(g) Assisting the Department with developing forms for the collection of data not collected through EDFacts, such as data related to Part C. Preparing forms clearance packages as needed for submission to the Office of Management and Budget (OMB). At the direction of OSEP, the Center must prepare responses to public comments received on the proposed information collection package and make revisions to the forms, if necessary. As directed by OSEP, the Center must take the following steps in the development of a new data collection form: (1) Convene a task force of State representatives, relevant stakeholders, and Department personnel; (2) prepare a draft form based on the task force recommendations; (3) pilot test the draft form; (4) revise the form as necessary; and (5) prepare the OMB clearance forms;

(h) Conducting an annual assessment of the operations and processes to collect section 618 data from States and making specific recommendations to OSEP to improve, enhance, or redesign current processes to meet the Department's needs for data collections included in EDFacts. The annual study must consider the availability of new Internet and other technologies for the collection and reporting of data, as well as any new data needs;

(i) Establishing, maintaining, and meeting at least annually with a national advisory group that will be responsible for providing annual feedback on the plans, activities, and accomplishments of the Center;

(j) Maintaining ongoing communication with the OSEP Project Officer, including monthly conference calls. Budget for a three-day Project Directors' meeting in Washington, DC during each year of the project plus ten additional two-day trips annually to Washington, DC to attend additional national meetings and to meet and collaborate with the OSEP Project Officer and other funded projects for purposes of cross-project collaboration and information exchange;

(k) Budgeting five percent of the grant amount annually to support emerging needs as identified jointly through consultation with the OSEP project officer; and

(l) If a project maintains a Web site, including relevant information and documents in a format that meets a government or industry-recognized standard for accessibility.

Note: In each budget period of 12 months, OSEP estimates that approximately 30 percent of the effort under this proposed priority will be devoted to activities and products described in paragraph (c) of this section and approximately 70 percent of the effort will be devoted to the remaining activities described in this section.

Fourth and Fifth Years of the Project

In deciding whether to continue funding the Center for the fourth and fifth years, the Secretary will consider the requirements of 34 CFR 75.253(a), and in addition—

(a) The recommendation of a review team consisting of experts selected by the Secretary, which review will be conducted in Washington, DC during the last half of the project's second year. Projects must budget for travel expenses associated with this one-day intensive review;

(b) The timeliness and effectiveness with which all requirements of the negotiated cooperative agreement have been or are being met by the Center; and

(c) Evidence of the degree to which the Center's activities have contributed to improvements in the quality of State-reported data.

Eligibility Requirements

Background

The Secretary is proposing that public and private agencies and organizations would be eligible for a grant under this program. The Secretary believes that this will provide the broadest possible pool of applicants to achieve the purpose of the priority.

Proposed Eligibility Requirements

The following entities would be eligible for funding under this program: Public and private agencies and organizations, including for-profit and non-profit agencies and organizations.

Executive Order 12866

This notice of proposed priority and eligibility requirements has been reviewed in accordance with Executive Order 12866. Under the terms of the order, we have assessed the potential costs and benefits of this regulatory action.

The potential costs associated with this regulatory action are those resulting from statutory requirements and those we have determined as necessary for administering this program effectively and efficiently.

In assessing the potential costs and benefits—both quantitative and qualitative—of this regulatory action, we have determined that the benefits of the proposed regulatory action justify the costs.

We have also determined that this regulatory action does not unduly interfere with State, local, and tribal governments in the exercise of their governmental functions.

Intergovernmental Review

This program is subject to Executive Order 12372 and the regulations in 34 CFR part 79. One of the objectives of the Executive Order is to foster an intergovernmental partnership and a strengthened federalism. The Executive Order relies on processes developed by State and local governments for coordination and review of proposed Federal financial assistance.

This document provides early notification of our specific plans and actions for this program.

Electronic Access to This Document

You may view this document, as well as all other Department of Education documents published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.htm.

(Catalog of Federal Domestic Assistance Number 84.373Y Technical Assistance on Data Collection—Technical Assistance Center for Data Collection, Analysis, and Use for Accountability in Special Education and Early Intervention)

Program Authority: 20 U.S.C. 1411(c) and 1416(i)(2).

Dated: January 19, 2007.
John H. Hager,
Assistant Secretary for Special Education and Rehabilitative Services.

[FR Doc. E7-1233 Filed 1-25-07; 8:45 am]

BILLING CODE 4000-01-P